FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 201104.

Title: Marine Terminal Agreement between Compania Chilena de Navegacion Interoceanica S.A. and The City and County of San Francisco.

Parties: The City and County of San Francisco, Compania Chilena de Navegacion Interoceanica S.A.

Synopsis: The agreement provides for the non-exclusive right to use a municipal pier for berthing, loading and discharging cargoes. The agreement runs through July 31, 2005.

Dated: July 7, 2000.
By Order of the Federal Maritime Commission.
Theodore A. Zook,
Assistant Secretary.

[FR Doc. 00-17651 Filed 7-12-00; 8:45 am]

BILLING CODE 6730-01-P